INTERNATIONAL TRADE COMMISSION

[Investigation No. 731-TA-1056 (Preliminary)]

Certain Aluminum Plate From South Africa

Determination

On the basis of the record ¹ developed in the subject investigation, the United States International Trade Commission (Commission) determined on December 1, 2003, pursuant to section 733(a) of the Tariff Act of 1930 (19 U.S.C. § 1673b(a)) (the Act), that there is a reasonable indication that an industry in the United States is materially injured by reason of imports from South Africa of certain aluminum plate, provided for in subheading 7606.12.30 of the Harmonized Tariff Schedule of the United States, that are alleged to be sold in the United States at less than fair value (LTFV).

¹ The record is defined in sec. 207.2(f) of the Commission's Rules of Practice and Procedure (19 CFR 207.2(f)).

Commencement of Final Phase Investigation

Pursuant to section 207.18 of the Commission's rules, the Commission also commenced the final phase of its investigation on December 1, 2003. Due to inadvertence, notice of the commencement of the final phase of the investigation was not published at the time. The Commission, however, issued a final phase notice of scheduling, which was published in the Federal Register (69 FR 33401, June 15, 2004) as provided in section 207.21 of the Commission's rules. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On October 16, 2003, a petition was filed with the Commission and Commerce by Alcoa, Inc., Pittsburgh, PA, alleging that an industry in the United States is materially injured or threatened with material injury by reason of LTFV imports of certain aluminum plate from South Africa. Accordingly, effective October 16, 2003, the Commission instituted antidumping duty investigation No. 731-TA-1056 (Preliminary).

Notice of the institution of the Commission's investigation and of a public conference to be held in connection therewith was given by posting copies of the notice in the Office of the Secretary, U.S. International Trade Commission, Washington, DC, and by publishing the notice in the Federal Register of October 24, 2003 (68 FR 61012). The conference was held in Washington, DC, on November 6, 2003, and all persons who requested the opportunity were permitted to appear in person or by counsel.

The Commission transmitted its determination in this investigation to the Secretary of Commerce on December 1, 2003. The views of the Commission are contained in USITC Publication 3654 (December 2003), entitled Certain Aluminum Plate from South Africa: Investigation No. 731-TA-1056 (Preliminary).

By order of the Commission.
Issued: August 27, 2004.
Marilyn R. Abbott,
Secretary to the Commission.

[FR Doc. 04-19997 Filed 9-1-04; 8:45 am]

BILLING CODE 7020-02-P